DEPARTMENT OF ENERGY

10 CFR Part 431

[Docket Number EERE-2008-BT-STD-0015]

RIN 1904-AB86

Energy Conservation Program: Energy Conservation Standards for Walk-In Coolers and Freezers

AGENCY: Office of Energy Efficiency and Renewable Energy, Department of Energy.

ACTION: Final rule; technical amendment.

SUMMARY: The Energy Policy and Conservation Act of 1975 (EPCA), as amended, requires the Department of Energy (DOE), among other things, to prescribe performance-based energy conservation standards for walk-in coolers and walk-in freezers. On June 3, 2014, DOE complied with this requirement. Recent litigation regarding these standards resulted in a settlement agreement between DOE and the other parties to that litigation. Consistent with the parties' settlement agreement, the United States Court of Appeals for the Fifth Circuit subsequently vacated six specific standards set forth in the June 2014 rule. DOE is amending the CFR to reflect the court's order vacating the six standards found in DOE's regulations pertaining to certain refrigeration systems used in walk-in cooler and walk-in freezer applications.

DATES: This action is effective on November 12, 2015. However, the court order had legal effect immediately upon its filing on August 10, 2015. Compliance with the remaining standards from the June 2014 final rule that were not vacated by the court order continues to be required on June 5, 2017.

FOR FURTHER INFORMATION CONTACT: Ms. Ashley Armstrong, U.S. Department of Energy, Office of Energy Efficiency and Renewable Energy, Building Technologies Program, EE-5B, 1000 Independence Avenue SW., Washington, DC 20585-0121. Telephone: (202) 586-6590. Email: Ashley.Armstrong@ee.doe.gov.

Mr. Michael Kido, U.S. Department of Energy, Office of the General Counsel, GC-33, 1000 Independence Avenue SW., Washington, DC 20585-0121. Telephone: (202) 586-8145. Email: Michael.Kido@hq.doe.gov.

SUPPLEMENTARY INFORMATION: DOE published a final rule, 79 FR 32050 (June 3, 2014), that set nineteen energy conservation standards pertaining to walk-in coolers and walk-in freezers (collectively, “walk-ins” or “WICFs”). A walk-in, at its basic level, is a refrigerated box, with a total chilled storage area of less than 3,000 square feet. The standards promulgated by DOE pertained to the primary components that comprise a walk-in—i.e. panels, doors, and the refrigeration systems. The panels and doors of a walk-in comprise the box, while the refrigeration system provides the cooling air to cool the interior of the box.

The Air-Conditioning, Heating and Refrigeration Institute (“AHRI”) and Lennox International, Inc. (a manufacturer of WICF refrigeration systems) filed petitions for review of DOE's final rule and DOE's subsequent denial of a petition for reconsideration of the rule with the United States Court of Appeals for the Fifth Circuit. Lennox Int'l, Inc. v. Dep't of Energy, Case No. 14-60535 (5th Cir.). A number of other WICF refrigeration system manufacturers—Rheem Manufacturing Co., Heat Transfer Products Group, and Hussmann Corp.—along with the Air Conditioning Contractors of America (a trade association representing contractors who install WICF refrigeration systems) intervened on the petitioners' behalf, while the Natural Resources Defense Council—representing itself, the American Council for an Energy-Efficient Economy, and the Texas Ratepayers' Organization to Save Energy—intervened on behalf of DOE. As a result of this litigation, a settlement agreement was reached to address, among other things, six of the refrigeration system standards.

The controlling court order from the Fifth Circuit, which was issued on August 10, 2015, vacates those six standards. These vacated standards relate to (1) the two energy conservation standards applicable to multiplex condensing refrigeration systems operating at medium and low temperatures and (2) the four energy conservation standards applicable to dedicated condensing refrigeration systems operating at low temperatures. See 10 CFR 431.306(e) (codifying these six standards, together with four distinct standards applicable to dedicated condensing refrigeration systems operating at medium temperatures).

The final rule on review also established thirteen other energy conservation standards applicable to other components of walk-in coolers and walk-in freezers: (1) Four standards applicable to dedicated condensing refrigeration systems operating at medium temperatures; (2) three standards applicable to panels; and (3) six standards applicable to doors. See 79 FR at 32051-32052 (Table I.1) and 32123-32124 (codified at 10 CFR 431.306(a), (c)-(e)). These standards have not been vacated and remain subject to the June 5, 2017 compliance date prescribed by the June 2014 final rule.

This final rule is not subject to the requirement to provide prior notice and an opportunity for public comment pursuant to 5 U.S.C. 553(b)(B). DOE finds good cause to waive the requirement to provide prior notice and an opportunity for public comment as such procedure is unnecessary. DOE must comply with the order of a Federal court, and has no discretion to do otherwise. In implementation of that order, DOE is vacating (1) the two energy conservation standards applicable to multiplex condensing refrigeration systems operating at medium and low temperatures and (2) the four energy conservation standards applicable to dedicated condensing refrigeration systems operating at low temperatures. Comments suggesting any other course would serve no useful purpose. DOE notes it is also actively engaged in a negotiated rulemaking to address the standards for these six classes of refrigeration systems.

Approval of the Office of the Secretary

The Secretary of Energy has approved publication of this final rule.

List of Subjects in 10 CFR Part 431

Administrative practice and procedure, Confidential business information, Energy conservation, Reporting and recordkeeping requirements.

Issued in Washington, DC, on November 4, 2015.
Kathleen B. Hogan,
Deputy Assistant Secretary, Energy Efficiency and Renewable Energy.

For the reasons stated in the preamble, DOE amends part 431 of chapter II, subchapter D, of title 10 of the Code of Federal Regulations, as set forth below:

PART 431—ENERGY EFFICIENCY PROGRAM FOR CERTAIN COMMERCIAL AND INDUSTRIAL EQUIPMENT

1. The authority citation for part 431 continues to read as follows:

Authority: 42 U.S.C. 6291-6317.

2. Section 431.306 is amended by revising paragraph (e) to read as follows:

§ 431.306 Energy conservation standards and their effective dates.

* * * * *

(e) Walk-in cooler and freezer refrigeration systems. All walk-in cooler and walk-in freezer refrigeration systems manufactured starting on June 5, 2017, must satisfy the following standards:

Class descriptor | Class | Equations for minimum AWEF (Btu/W-h)
Dedicated Condensing, Medium Temperature, Indoor System, <9,000 Btu/h Capacity | DC.M.I, <9,000 | 5.61
Dedicated Condensing, Medium Temperature, Indoor System, ≥9,000 Btu/h Capacity | DC.M.I, ≥9,000 | 5.61
Dedicated Condensing, Medium Temperature, Outdoor System, <9,000 Btu/h Capacity | DC.M.O, <9,000 | 7.60
Dedicated Condensing, Medium Temperature, Outdoor System, ≥9,000 Btu/h Capacity | DC.M.O, ≥9,000 | 7.60

[FR Doc. 2015-28728 Filed 11-10-15; 8:45 am]

BILLING CODE 6450-01-P